NUCLEAR REGULATORY COMMISSION

[FEMA-2012-0026, NRC-2015-0133]

Preparation and Evaluation of Radiological Emergency Response Plans and Preparedness

AGENCY: Nuclear Regulatory Commission.

ACTION: Draft NUREG; request for comment.

SUMMARY: The U.S. Nuclear Regulatory Commission (NRC) is issuing for public comment draft NUREG-0654/FEMA-REP-1, Revision 2, “Criteria for Preparation and Evaluation of Radiological Emergency Response Plans and Preparedness in Support of Nuclear Power Plants.” This guidance document was originally issued in December 1980 by the NRC in conjunction with the Federal Emergency Management Agency (FEMA). Both agencies use the document to evaluate the adequacy of the emergency plans and preparedness of commercial nuclear power plant (NPP) licensees and applicants, as well as those of State, local, and Tribal governments within the emergency planning zones (EPZs) surrounding commercial NPPs. This revision reflects changes to the NRC's and FEMA's regulations, guidance, and policies, as well as advances in technology and methods for responding to radiological incidents that have occurred since the document was originally issued. It also incorporates the four supplemental documents and addenda to NUREG-0654/FEMA-REP-1, Revision 1, that have been issued in the intervening years, and is intended to modernize the guidance while lessening administrative burden on users.

DATES: Submit comments by August 27, 2015. Comments received after this date will be considered if it is practical to do so, but the NRC is able to assure consideration only for comments received on or before this date.

ADDRESSES: In order to avoid the receipt and review of duplicate submissions, please submit your comments and any supporting material by only one of the following means:

• Federal Rulemaking Web site: Go to http://www.regulations.gov and search for Docket ID FEMA-2012-0026. For technical questions, contact the individual listed in the FOR FURTHER INFORMATION CONTACT section of this document.

• Mail comments to: Regulatory Affairs Division, Office of Chief Counsel, Federal Emergency Management Agency, 500 C Street SW., Washington, DC 20472-3100.

For additional direction on obtaining information and submitting comments, see “Obtaining Information and Submitting Comments” in the SUPPLEMENTARY INFORMATION section of this document.

FOR FURTHER INFORMATION CONTACT: Don Tailleart, Office of Nuclear Security and Incident Response, U.S. Nuclear Regulatory Commission, Washington, DC 20555-0001; telephone: 301-287-9257; email: Don.Tailleart@nrc.gov or William Eberst, Technological Hazards Division, National Preparedness Directorate, Federal Emergency Management Agency; Washington, DC 20472-3100; telephone: 202-341-4917; email: William.Eberst@fema.dhs.gov.

SUPPLEMENTARY INFORMATION:

I. Obtaining Information and Submitting Comments

A. Obtaining Information

Please refer to Docket ID FEMA-2012-0026 when contacting the NRC about the availability of information for this action. You may obtain publicly available information related to this action by any of the following methods:

• Federal Rulemaking Web site: Go to http://www.regulations.gov and search for Docket ID FEMA-2012-0026.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft guidance document is available in ADAMS under Accession No. ML14246A519.

• NRC's PDR: You may examine and purchase copies of public documents at the NRC's PDR, Room O1-F21, One White Flint North, 11555 Rockville Pike, Rockville, Maryland 20852.

Submitted comments may also be inspected at FEMA, Office of Chief Counsel, 500 C Street SW., Washington, DC 20472-3100.

B. Submitting Comments

Please include Docket ID FEMA-2012-0026 in the subject line of your comment submission, in order to ensure that FEMA is able to make your comment submission available to the public in this docket.

All submissions received must include the agency name (FEMA) and docket ID. Regardless of the method used for submitting comments or material, FEMA will post all submissions, without change, to www.regulations.gov and will include any personal information that you provide. Therefore, submitting this information makes it public. You may wish to read the Privacy Act notice, which can be viewed by clicking on the “Privacy Notice” link on the homepage of www.regulations.gov.

II. Discussion

In December 1980, the NRC issued NUREG-0654/FEMA-REP-1, Revision 1, “Criteria for Preparation and Evaluation of Radiological Emergency Response Plans and Preparedness in Support of Nuclear Power Plants,” in conjunction with FEMA (45 FR 85862; December 30, 1980).

Revision 1 of NUREG-0654/FEMA-REP-1 provides guidance on meeting the 16 planning standards for NPP emergency response plans found in the NRC's regulations in paragraph 50.47(b) of Title 10 of the Code of Federal Regulations (10 CFR) and FEMA's regulations set forth in 44 CFR 350.5(a). Both agencies use the guidance in determining compliance with these planning standards and evaluating the overall adequacy of the emergency plans and preparedness of commercial NPP licensees and applicants, as well as State, local, and Tribal governments within the EPZs surrounding commercial NPPs, for responding to a radiological incident at an NPP.

Since the publication of NUREG-0654/FEMA-REP-1, Revision 1, in 1980, four supplemental documents and one set of addenda have been issued that update and modify specific planning and procedural elements. These documents are available online at the Federal rulemaking Web site, www.regulations.gov, under Docket ID FEMA-2012-0026. There have also been changes to the NRC's and FEMA's regulations, guidance, and policies, as well as advances in technology and methods for responding to radiological incidents. The NRC and FEMA are revising NUREG-0654/FEMA-REP-1, Revision 1, to incorporate information from the supplements and addenda; address regulatory, guidance, and policy changes; and include various emergency planning and preparedness lessons learned since its initial publication.

The NRC is developing an emergency preparedness handbook (a NUREG document) in conjunction with the revision of NUREG-0654/FEMA-REP-1. The handbook will provide amplifying guidance on meeting the intent of the NUREG-0654/FEMA-REP-1, Revision 2 evaluation criteria applicable to commercial NPP applicants and licensees, and the level of detail that applicant and licensee emergency plans should provide regarding each evaluation criterion. A preliminary draft version of the handbook will be available for viewing in ADAMS under Accession No. ML15140A415 during the public comment period for NUREG-0654/FEMA-REP-1, Revision 2; a final draft version of the handbook will be issued at a later time.

The NRC and FEMA held two public meetings on August 22, 2012, and September 13, 2012, as well as two public stakeholder engagement sessions on October 29-31, 2013, and June 25, 2014. The public meetings were conducted in order to: (1) solicit input from stakeholders and interested members of the public on the scope of future revisions to NUREG-0654/FEMA-REP-1, Revision 1; (2) describe the proposed timeline for the revisions to NUREG-0654/FEMA-REP-1, Revision 1; (3) promote transparency, public participation, and collaboration during the NUREG-0654/FEMA-REP-1, Revision 1, revision process; and (4) allow direct input from stakeholders and the public on changes being made during the initial writing process. Presentation material and meeting notes are available for review on the Federal rulemaking Web site, www.regulations.gov, under Docket ID FEMA-2012-0026.

III. Backfitting and Issue Finality

Issuance of NUREG-0654/FEMA-REP-1, Revision 2, in final form, would not constitute backfitting under 10 CFR 50.109 and would not otherwise be inconsistent with the issue finality provisions in 10 CFR part 52. As discussed in section I.B., “Scope,” under the subsection titled “Use by NRC,” of NUREG-0654/FEMA-REP-1, Revision 2, the NRC has no current intention to impose NUREG-0654/FEMA-REP-1, Revision 2, on current holders of a construction permit, operating license, early site permit, or combined license.

NUREG-0654/FEMA-REP-1, Revision 2, if finalized, could be applied to applications for certain 10 CFR part 50 operating licenses or construction permits and 10 CFR part 52 combined licenses and early site permits. Such action would not constitute backfitting as defined in 10 CFR 50.109 or be otherwise inconsistent with the applicable issue finality provision in 10 CFR part 52, inasmuch as such applicants are not, with certain exceptions, within the scope of entities protected by 10 CFR 50.109 or the relevant issue finality provisions in 10 CFR part 52. This is because neither the Backfit Rule nor the issue finality provisions under 10 CFR part 52—with certain exclusions discussed below—was intended to apply to every NRC action that substantially changes the expectations of current and future applicants. The exceptions to the general principle are applicable whenever an applicant references a 10 CFR part 52 license (e.g., an early site permit), NRC regulatory approval (e.g., a design certification rule), or both, with specified issue finality provisions. The staff does not, at this time, intend to impose the positions represented in the draft NUREG (if finalized) in a manner that is inconsistent with any issue finality provisions. If, in the future, the staff seeks to impose a position in the draft NUREG (if finalized) in a manner that does not provide issue finality as described in the applicable issue finality provision, then the staff must address the criteria for avoiding issue finality as described in the applicable issue finality provision.

Dated at Rockville, Maryland, this 20th day of May, 2015.
For the U.S. Nuclear Regulatory Commission.
Brian E. Holian,
Director, Office of Nuclear Security and Incident Response.

[FR Doc. 2015-13079 Filed 5-28-15; 8:45 am]

BILLING CODE 7590-01-P